DEPARTMENT OF HOMELAND SECURITY

U.S. Customs and Border Protection

[Docket No. USCBP-2018-0041]

Commercial Customs Operations Advisory Committee (COAC)

AGENCY: U.S. Customs and Border Protection (CBP), Department of Homeland Security (DHS).

ACTION: Committee Management; Notice of Federal Advisory Committee meeting.

SUMMARY: The Commercial Customs Operations Advisory Committee (COAC) will hold its quarterly meeting on Wednesday, December 5, 2018, in Herndon, Virginia. The meeting will be open to the public.

DATES: The COAC will meet on Wednesday, December 5, 2018, from 1:00 p.m. to 5:00 p.m. EST. Please note that the meeting may close early if the committee has completed its business.

ADDRESSES: The meeting will be held at the Hilton Dulles Washington Airport, 13869 Park Center Road, Herndon,Virginia 20171. For information on facilities or services for individuals with disabilities or to request special assistance at the meeting, contact Ms. Florence Constant-Gibson, Office of Trade Relations, U.S. Customs & Border Protection, at (202) 344-1440 as soon as possible.

Pre-Registration: Meeting participants may attend either in person or via webinar after pre-registering using one of the methods indicated below:

For members of the public who plan to attend the meeting in person, please register by 5:00 p.m. EST on December 4, 2018, either online at https://teregistration.cbp.gov/index.asp?w=143; by email to tradeevents@dhs.gov; or by fax to (202) 325-4290. You must register prior to the meeting in order to attend the meeting in person.

For members of the public who plan to participate via webinar, please register online at https://teregistration.cbp.gov/index.asp?w=142 by 5:00 p.m. EST on December 4, 2018.

Please feel free to share this information with other interested members of your organization or association.

Members of the public who are pre-registered to attend in person or via webinar and later need to cancel, please do so by December 4, 2018, utilizing the following links: https://teregistration.cbp.gov/cancel.asp?w=143 to cancel an in person registration or https://teregistration.cbp.gov/cancel.asp?w=142 to cancel a webinar registration.

To facilitate public participation, we are inviting public comment on the issues the committee will consider prior to the formulation of recommendations as listed in the Agenda section below.

Comments must be submitted in writing and received no later than December 3, 2018, and must be identified by Docket No. USCBP-2018-0041, and may be submitted by one (1) of the following methods:

• Federal eRulemaking Portal: http://www.regulations.gov. Follow the instructions for submitting comments.

• Email: tradeevents@dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2018-0041) for this action. Comments received will be posted without alteration at http://www.regulations.gov. Please do not submit personal information to this docket.

Docket: For access to the docket or to read background documents or comments, go to http://www.regulations.gov and search for Docket Number USCBP-2018-0041. To submit a comment, click the “Comment Now!” button located on the top-right hand side of the docket page.

There will be multiple public comment periods held during the meeting on December 5, 2018. Speakers are requested to limit their comments to two (2) minutes or less to facilitate greater participation. Contact the individual listed below to register as a speaker. Please note that the public comment period for speakers may end before the time indicated on the schedule that is posted on the CBP web page, http://www.cbp.gov/trade/stakeholder-engagement/coac.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Mr. Bradley Hayes, Executive Director and Designated Federal Officer at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions as prescribed by law or as directed by the Secretaries of the Department of Homeland Security and the Department of the Treasury.

Agenda

The COAC will hear from the current subcommittees on the topics listed below and then will review, deliberate, provide observations, and formulate recommendations on how to proceed:

1. The Secure Trade Lanes Subcommittee will present plans for the scope and activities of the Trusted Trader and CTPAT Minimum Security Criteria Working Groups. It is anticipated that recommendations will be presented regarding the proposed Forced Labor Trusted Trader Strategy. The subcommittee will also deliver recommendations from the Petroleum Pipeline Working Group regarding the results of a proof of concept test that used the Automated Commercial Environment to electronically report and manage petroleum moving in-bond via pipeline; as well as recommendations from the In-bond Working Group regarding potential automation, visibility, system and regulatory issues.

2. The COAC Next Generation Facilitation Subcommittee will discuss the E-Commerce Working Group's progress on mapping the supply chains of various modes of transportation to identify the differences between e-commerce and traditional channels. The subcommittee will also provide an update on the status of the Emerging Technologies Working Group's NAFTA/CAFTA, Intellectual Property Rights, and Pipeline Blockchain Proof of Concept projects. Finally, the subcommittee will provide a progress report for the Regulatory Reform Working Group as it completes its review of Title 19 of the Code of Federal Regulations (CBP regulations) and begins its preparation of high-level recommendations.

3. The Intelligent Enforcement Subcommittee will provide recommendations from the Intellectual Property Rights Working Group and updates from the Anti-Dumping and Countervailing Duty, Bond, and Forced Labor Working Groups.

Meeting materials will be available by December 3, 2018 at: http://www.cbp.gov/trade/stakeholder-engagement/coac/coac-public-meetings.

Dated: November 13, 2018.
Bradley F. Hayes,
Executive Director, Office of Trade Relations.

[FR Doc. 2018-25072 Filed 11-15-18; 8:45 am]

BILLING CODE 9111-14-P